DEPARTMENT OF THE INTERIOR

U.S. Geological Survey

Technology Transfer Act of 1986

AGENCY: U.S. Geological Survey, Interior.

ACTION: Notice of proposed Cooperative Research and Development Agreement (CRADA) negotiations.

SUMMARY: The United States Geological Survey (USGS) is planning to enter into a Cooperative Research and Development Agreement (CRADA) with Florida International University (FIU). The USGS, working with the High-Performance Database Research Center (HPDRC) and the National Aeronautics and Space Administration (NASA) Regional Applications Center (RAC), co-located in the Computer Science Department of FIU, will perform joint research and development in seamless database development and the public display and dissemination of seamless satellite, aerial, and other geo-spatial data over the Internet for scientific and commercial uses. Any other organization interested in pursing the possibility of a CRADA for similar kinds of activities should contact the USGS.

ADDRESSES: Inquiries may be addressed to the Chief, Systems and Technology, U.S. Geological Survey, 500 National Center, 12201 Sunrise Valley Drive, Reston, Virginia 20192; telephone (703 648-5084, facsimile (703) 648-4706; internet blowell@usgs.gov.

FOR FURTHER INFORMATION CONTACT: Brent H. Lowell, address above.

SUPPLEMENTARY INFORMATION: This notice is to meet the USGS requirement stipulated in the Survey Manual.

Dated: December 28, 2000.
John A. Kelmelis,
Acting Associate Director for Geography.

[FR Doc. 01-618 Filed 1-9-01; 8:45 am]

BILLING CODE 4310-Y7-M